DEPARTMENT OF TRANSPORTATION

Federal Railroad Administration

49 CFR Part 234

[DOCKET No. FRA-2018-0096, Notice No. 3]

RIN 2130-AC72

State Highway-Rail Grade Crossing Action Plans; Correction

AGENCY: Federal Railroad Administration (FRA), Department of Transportation (DOT).

ACTION: Correcting amendment.

SUMMARY: On December 14, 2020, FRA published a final rule amending FRA's grade crossing safety standards. In preparing the final rule for publication, an error was made that resulted in a cross-reference to the wrong paragraph. FRA is correcting that inadvertent error.

DATES: Effective on February 23, 2021.

FOR FURTHER INFORMATION CONTACT: Kathryn Gresham, Attorney Adviser, U.S. Department of Transportation, Federal Railroad Administration, Office of the Chief Counsel (email: kathryn.gresham@dot.gov, telephone: 202-493-6063).

SUPPLEMENTARY INFORMATION: In § 234.11 of FRA's December 14, 2020, final rule requiring States and the District of Columbia to develop and implement highway-rail grade crossing action plans, paragraph (d) erroneously referenced paragraph (d)(2) for a list of 10 States required to submit their updated highway-rail grade crossing action plans and implementation reports electronically through FRA's website in Portable Document Format (PDF). 85 FR 80648, 80660. The referenced list is actually contained in paragraph (c)(3) of § 234.11; there is no paragraph (d)(2) in § 234.11. Therefore, FRA is issuing this correction amending paragraph § 234.11(d) to refer to the actual regulatory provision (§ 234.11(c)(3)) that contains the list of 10 States required to submit their updated highway-rail grade crossing action plans and implementation reports to FRA. FRA is proceeding directly to a final rule as it finds public notice and comment to be unnecessary per the “good cause” exemption in 5 U.S.C. 553(b)(3)(B) for this clearly inadvertent error.

List of Subjects in 49 CFR Part 234

Highway safety, Penalties, Railroad safety, Reporting and recordkeeping requirements, State and local governments.

The Final Rule

For the reasons discussed in the preamble, FRA amends part 234 of chapter II, subtitle B of title 49, Code of Federal Regulations, with the following correcting amendment:

PART 234—GRADE CROSSING SAFETY

1. The authority citation for part 234 continues to read as follows:

Authority: 49 U.S.C. 20103, 20107, 20152, 20160, 21301, 21304, 21311; Sec. 11401, Div. A, Pub. L. 114-94, 129 Stat. 1679 (49 U.S.C. 22501 note); and 49 CFR 1.89.

2. In § 234.11, revise paragraph (d) to read as follows:

§ 234.11 State highway-rail grade crossing action plans.

* * * * *

(d) Electronic submission of updated Action Plan and implementation report. Each of the 10 States listed in paragraph (c)(3) of this section shall submit its updated highway-rail grade crossing action plan and implementation report electronically through FRA's website in PDF form.

* * * * *

Issued in Washington, DC.
Brett A. Jortland,
Acting Chief Counsel.

[FR Doc. 2021-03229 Filed 2-22-21; 8:45 am]

BILLING CODE 4910-06-P